DEPARTMENT OF HOMELAND SECURITY

Federal Emergency Management Agency

[Docket ID: FEMA-2018-0018; OMB No. 1660-0131]

Agency Information Collection Activities: Proposed Collection; Comment Request; Threat and Hazard Identification and Risk Assessment (THIRA)—Stakeholder Preparedness Review (SPR) Reporting Tool

AGENCY: Federal Emergency Management Agency, DHS.

ACTION: Notice and request for comments.

SUMMARY: The Federal Emergency Management Agency (FEMA), as part of its continuing effort to reduce paperwork and respondent burden, invites the general public to take this opportunity to comment on a revision of a currently approved information collection. In accordance with the Paperwork Reduction Act of 1995, this notice seeks comments concerning this annual requirement for the U.S. Department of Homeland Security (DHS), FEMA to identify current capability levels for all States, Territories, urban areas, and Tribes receiving non-disaster preparedness grant funds administered by DHS.

DATES: Comments must be submitted on or before May 14, 2018.

ADDRESSES: To avoid duplicate submissions to the docket, please use only one of the following means to submit comments:

(1) Online. Submit comments at www.regulations.gov under Docket ID FEMA-2018-0018. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Dante Randazzo, Supervisory Emergency Management Specialist, FEMA, National Preparedness Assessment Division, Dante.Randazzo@fema.dhs.gov. You may contact the Information Management Division for copies of the proposed collection of information at email address: FEMA-Information-Collections-Management@fema.dhs.gov.

SUPPLEMENTARY INFORMATION: This package is a revision to the collection titled THIRA/SPR, OMB Control Number: 1660-0131. Although initially titled the State Preparedness Report (SPR), FEMA changed the name of the collection to the THIRA/SPR Unified Reporting Tool to more accurately reflect the information gathered and method of collection. The Post-Katrina Emergency Management Reform Act of 2006 (PKEMRA), as amended by the Implementing Recommendations of the 9/11 Commission Act of 2007, established an annual requirement for the 56 States and Territories to submit a State Preparedness Report. Because this reporting now includes States, Territories, urban areas, and Tribes, FEMA has revised the name of the report as the Stakeholder Preparedness Review (SPR). States, Territories, urban areas and Tribes receiving non-disaster preparedness grant funds administered by DHS submit the SPR annually, and this encompasses the requirements of the State Preparedness Report while also reflecting the updated reporting needs. The legislation requires a report on current capability levels and a description of targeted capability levels from all States, Territories, urban areas and Tribes receiving non-disaster preparedness grant funds administered by DHS. Each report must also include a discussion of the extent to which target capabilities identified in the applicable State homeland security plan and other applicable plans are unmet, and an assessment of resources needed to meet the preparedness priorities established under PKEMRA Section 646(e), including: (i) An estimate of the amount of expenditures required to attain the preparedness priorities; and (ii) the extent to which the use of Federal assistance during the preceding fiscal year achieved the preparedness priorities. To meet this requirement, States, Territories, Tribes, and urban areas first identify capability targets through the Threat and Hazard Identification and Risk Assessment (THIRA) and then assess against these targets in the SPR. Through the SPR, these jurisdictions estimate their current capabilities, identify and describe gaps between current capabilities and targets, indicate their intended approach for addressing gaps in the future, and report on the impact of Federal grant dollars in building and sustaining capabilities. It is also important to note that completing the THIRA and SPR are allowable expenses under the grant awards.

Collection of Information

Title: Threat and Hazard Identification and Risk Assessment (THIRA)—Stakeholder Preparedness Review (SPR) Reporting Tool.

Type of Information Collection: Revision of a currently approved information collection.

OMB Number: 1660-0131.

FEMA Forms: FEMA Form 008-0-19 (THIRA), Threat and Hazard Identification and Risk Assessment (THIRA) Reporting Tool; FEMA Form 008-0-20 (SPR), Stakeholder Preparedness Review (SPR) Reporting Tool; FEMA Form 008-0-23, THIRA/SPR After-Action Call Questions.

Abstract: The assessment is structured by the 32 core capabilities from the 2015 National Preparedness Goal. States, Territories, urban areas, and Tribes provide information on capability targets, their current capability levels and capability gaps for each core capability. Respondent States, Territories, Tribes and urban areas gather the information and complete the THIRA and SPR following the “Comprehensive Preparedness Guide (CPG) 201, Third Edition.”

Affected Public: State, Local or Tribal Government.

Estimated Number of Respondents: 113.

Estimated Number of Responses: 113.

Estimated Total Annual Burden Hours: 84,414.

Estimated Total Annual Respondent Cost: $4,328,749.92.

Estimated Respondents' Operation and Maintenance Costs: $12,404,962.

Estimated Respondents' Capital and Start-Up Costs: $0.

Estimated Total Annual Cost to the Federal Government: $2,648,063.63.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 7, 2018.
William H. Holzerland,
Senior Director for Information Management, Office of the Chief Administrative Officer, Mission Support, Federal Emergency Management Agency, Department of Homeland Security.

[FR Doc. 2018-04994 Filed 3-12-18; 8:45 am]

BILLING CODE 9111-46-P